DEPARTMENT OF THE TREASURY

Submission for OMB Review; Comment Request

November 3, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before December 10, 2009 to be assured of consideration.

Internal Revenue Service (IRS)

OMB Number: 1545-0028.

Type of Review: Revision.

Title: Employer's Annual Federal Unemployment (FUTA) Tax Return (Form 940); Planilla Para La Declaracion Anual Del Patrono-La Contribucion Federal Para El Desempleo (FUTA)(Form 940-PR).

Form: 940-PR, Schedule A (Form 940).

Description: IRC section 3301 imposes a tax on employees based on the first $7,000 of taxable annual wages paid to each employee. IRS uses the information reported on Forms 940 and 940-PR (Puerto Rico) to ensure that employers have reported and figured the correct FUTA Wages and tax.

Respondents: Businesses or other for-profits.

Estimated Total Burden Hours: 105,216,730 hours.

OMB Number: 1545-1842.

Type of Review: Extension.

Title: Health Coverage Tax Credit Registration Form.

Form: 13441.

Description: Form 13441, Health Coverage Tax Credit Registration Form, will be directly mailed to all individuals who are potentially eligible for the HCTC. Potentially eligible individuals will use this form to determine if they are eligible for the Health Coverage Tax Credit and to register for the HCTC program. Participation in this program is voluntary. This form will be submitted by the individual to the HCTC program office in a postage-paid, return envelope. We will accept faxed forms, if necessary. Additionally, recipients may call center for help in completing this form.

Respondents: Individuals or households.

Estimated Total Burden Hours: 900 hours.

OMB Number: 1545-1016.

Type of Review: Extension.

Title: Return of Excise Tax on Undistributed Income of Regulated Investment Companies.

Form: 8613.

Description: Form 8613 is used by regulated investment companies to compute and pay the excise tax on undistributed income imposed under section 4982. IRS uses the information to verify that the correct amount of tax has been reported.

Respondents: Businesses or other for-profits.

Estimated Total Burden Hours: 17,820 hours.

OMB Number: 1545-0155.

Type of Review: Revision.

Title: Investment Credit.

Form: 3468.

Description: Taxpayers are allowed a credit against their income tax for certain expenses they incur for their trades or businesses. Form 3468 is used to compute this investment tax credit. The information collected is used by the IRS to verify that the credit has been correctly computed.

Respondents: Businesses or other for-profits.

Estimated Total Burden Hours: 530,937 hours.

OMB Number: 1545-0098.

Type of Review: Extension.

Title: Application for Tentative Refund.

Form: 1045.

Description: Form 1045 is used by individuals, estates, and trusts to apply for a quick refund of taxes due to carryback of a new operating loss, unused general business credit, or claim of right adjustment under section 1341(b). The information obtained is used to determine the validity of the application.

Respondents: Individuals or households.

Estimated Total Burden Hours: 515,114 hours.

OMB Number: 1545-1442.

Type of Review: Extension.

Title: PS-79-93 (Final) Grantor Trust Reporting Requirements.

Description: The information required by these regulations is used by the Internal Revenue Service to ensure that items of income, deduction, and credit of a trust as owned by the grantor or another person are properly reported.

Respondents: Businesses or other for-profits.

Estimated Total Burden Hours: 920,000 hours.

Clearance Officer: R. Joseph Durbala (202) 622-3634. Internal Revenue Service, Room 6516, 1111 Constitution Avenue, NW., Washington, DC 20224.

OMB Reviewer: Shagufta Ahmed (202) 395-7873. Office of Management and Budget, Room 10235, New Executive Office Building, Washington, DC 20503.

Celina Elphage,
Treasury PRA Clearance Officer.

[FR Doc. E9-27028 Filed 11-9-09; 8:45 am]

BILLING CODE 4830-01-P